DEPARTMENT OF AGRICULTURE

Natural Resources Conservation Service

East Locust Creek Watershed, Putnam and Sullivan Counties, MO

AGENCY: Natural Resources Conservation Service.

ACTION: Notice of intent to prepare an Environmental Impact Statement.

SUMMARY: Pursuant to section 102(2)(C) of the Environmental Policy Act of 1969; the Council on Environmental Quality Guidelines (40 CFR part 1500); and the Natural Resources Conservation Service Guidelines (7 CFR part 650); the Natural Resources Conservation Service, U.S. Department of Agriculture, North Central Missouri Regional Water Commission, the Locust Creek Watershed District, and the Sullivan County Soil and Water Conservation District give notice that an environmental impact statement (EIS) is being prepared for East Locust Creek Watershed, Putnam and Sullivan Counties, Missouri.

FOR FURTHER INFORMATION CONTACT: Roger A. Hansen, State Conservationist, or Harold L. Deckerd, Assistant State Conservationist, 601 Business Loop 70 West, Parkade Center, Suite #250, Columbia, MO 65203, (573) 876-0900.

SUPPLEMENTARY INFORMATION: The environmental assessment of this federally assisted action indicates that the project may cause significant local, regional, or national impacts on the environment. As a result of these findings, Roger Hansen, NRCS State Conservationist, has determined that the preparation and review of an environmental impact statement (EIS) is needed for this project.

This project involves construction of a multiple-purpose reservoir as a supplement to the on-going Public Law 83-566 East Locust Creek Watershed project. The project supplement will include one rural water supply reservoir with additional purposes of flood protection, recreation, and fish and wildlife habitat enhancement.

A draft EIS will be prepared and circulated for review by agencies and the public. The Natural Resources Conservation Service invites participation and consultation of agencies and individuals that have special expertise, legal jurisdiction, or interest in the preparation of the draft EIS. A field investigation is scheduled for September 27 and 28, 2004, and additional planning Meetings will be scheduled as needed. Further information on the proposed action may be obtained from Harold Deckerd, Assistant State Conservationist, at the above address or telephone number.

Dated: September 16, 2004.
Roger A. Hansen,
State Conservationist.

[FR Doc. 04-21390 Filed 9-22-04; 8:45 am]

BILLING CODE 3410-16-P